DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 20, 2000.

Interested persons are invited to submit written comments regarding the subject matter of the investigations to the Director, Division of Trade Adjustment Assistance, at the address shown below, not later than July 20, 2000.

The petitions filed in this case are available for inspection at the Office of the Director, Division of Trade Adjustment Assistance, Employment and Training Administration, U.S. Department of Labor, 200 Constitution Avenue, N.W., Washington, D.C. 20210.

Signed at Washington, DC, this 19th day of June, 2000.
Edward A. Tomchick,
Director, Division of Trade Adjustment Assistance.

Appendix
[Petitions instituted on 6/19/2000]
TA-W | Subject Firm (Petitioners) | Location | Date of petition | Product(s)
37,789 | Art Craft Optical Co. (Co.) | Rochester, NY | 05/08/2000 | Eye Glass Frames.
37,790 | Empire Steel Castings (USWA) | Reading, PA | 06/05/2000 | Steel Castings.
37,791 | Erie Controls (Co.) | Milwaukee, WI | 04/25/2000 | Electronic Components, Controls Assembly.
37,792 | Southwire Company (Wkrs) | Carrollton, GA | 05/23/2000 | Copper Cathode.
37,793 | Data Products (Wkrs) | Simi Valley, CA | 06/02/2000 | Computer Cartridges.
37,794 | American Fabrics (Wkrs) | Tylertown, MS | 05/12/2000 | Lace.
37,795 | Arlington Apparel (Co.) | Arlington, GA | 06/02/2000 | Ladies and Girls' Underwear.
37,796 | Invensys Best Power (Wkrs) | Necedan, WI | 06/01/2000 | Power Supplies.
37,797 | Craft House (Co.) | Kalaska, MI | 06/06/2000 | Children's Toys and Adult Crafts.
37,798 | KPT, Inc. (Wkrs) | Bloomfield, IN | 05/31/2000 | Ceramic Floor Tile.
37,799 | Swann Embroidery (Co.) | Florence, AL | 05/31/2000 | Embroidered Logos.
37,800 | Mar Kel Lighting (IAMAW) | Paris, TN | 06/09/2000 | Ceramic and Metal Lamps.
37,801 | Kountry Kreations (Co.) | Towanda, PA | 06/05/2000 | Dried & Preserved Floral Products.
37,802 | Lydall Westex (Wkrs) | Hamptonville, NC | 06/08/2000 | Non Woven Heat and Sound Insulation.
37,803 | MNCO, LLC (Wkrs) | Commerce, GA | 05/23/2000 | Leather Aprons, Support & Tool Belts.
37,804 | Kellwood Company (UNITE) | Spencer, WV | 05/22/2000 | Ladies' Knitwear.
37,805 | Eastern Tool and Die (Wkrs) | Newington, CT | 06/02/2000 | Jigs, Fixtures, and Service Tools.
37,806 | W.E. Bassett (Co.) | Derby, CT | 06/09/2000 | Fingernail Clippers and Tweezers.
37,807 | Southern Trim, Inc (Co.) | Opp, AL | 06/09/2000 | Men's and Ladies' Jeans.
37,808 | Edgewater Steel Co. (Wkrs) | Oakmont, PA | 06/05/2000 | Forged Rings, Wheels and Gear Blanks.
37,809 | Aly Wear (Wkrs) | Ephrata, PA | 06/09/2000 | Women's Tops, Bottoms, Dresses.
37,810 | Buckeye Apparel (UNITE) | Coldwater, OH | 06/02/2000 | Men's Pants and Swimwear.
37,811A | Portland General Electric (Co.) | Portland, OR | 06/19/2000 | Decommissioning Nuclear Power Plant.
37,811 | Portland General Electric (Co.) | Rainier, OR | 06/19/2000 | Decommissioning Nuclear Power Plant.

[FR Doc. 00-17313 Filed 7-7-00; 8:45 am]

BILLING CODE 4510-30-M